DEPARTMENT OF HEALTH AND HUMAN SERVICES

Administration for Children and Families

[CFDA Number: 93.647]

Announcement of the Award of a Single-Source Program Expansion Supplement Grant to Child Trends, Inc., in Bethesda, MD

AGENCY: Office of Planning, Research and Evaluation, ACF, HHS.

ACTION: Announcement of the award of a single-source expansion supplement grant to Child Trends, Inc., in Bethesda, MD, to support activities that promote the economic and social well-being of individuals, families, and communities.

SUMMARY: The Administration for Children and Families (ACF), Office of Planning, Research and Evaluation (OPRE) announces the award of a single-source expansion supplement award in the amount of $120,000 to Child Trends, Inc., in Bethesda, MD, to support activities that will provide research-based information to improve understanding of how to promote the economic and social well-being of underserved and under-represented populations.

DATES: September 30, 2014 through September 29, 2015.

FOR FURTHER INFORMATION CONTACT: Ann Rivera, Social Science Research Analyst, Office of Planning, Research & Evaluation, Administration for Children and Families, 370 L'Enfant Promenade SW., Washington, DC 20447; Telephone: (202) 401-5506; Email: ann.rivera@acf.hhs.gov.

SUPPLEMENTARY INFORMATION: Under this grant program, Child Trends, Inc., a non-profit, nonpartisan research center, has established the National Research Center on Hispanic Children and Families, which brings together an interdisciplinary team of academic and organizational partners to provide leadership in culturally competent research that can inform policies concerning low-income Hispanic families and to foster significant scholarship regarding the needs and experiences of the Hispanic populations throughout the nation. This ACF-sponsored research center develops research products and research-based resources that aim to build research capacity in the field and to improve understanding of Hispanic populations in order to inform policy development and programmatic responses.

The award of a single-source expansion supplement to this research center will support activities to develop research-based resources to inform ACF program offices, current and future ACF grantees, and potential ACF grant applicants about the characteristics and needs of underserved and under-represented populations.

Statutory Authority: Section 1110 of the Social Security Act (42 U.S.C. 1310).

Melody Wayland,
Senior Grants Policy Specialist, Office of Administration, Office of Financial Services/Division of Grants Policy.

[FR Doc. 2014-26226 Filed 11-4-14; 8:45 am]

BILLING CODE 4184-07-P